DEPARTMENT OF HEALTH AND HUMAN SERVICES

Administration for Children and Families

Submission for OMB Review; Comment Request

Title: Refugee Unaccompanied Minor Placement Report & Minor Progress Reports; ORR-3 and ORR-4.

OMB No.: 0970-0034.

Description: The two reports collect information necessary to administer the Unaccompanied Refugee Minor (URM) program. The ORR-3 (Placement Report) is submitted to the Office of Refugee Resettlement (ORR) by the State agency at initial placement within 30 days of the placement, and whenever there is a change in the child's status, including termination from the program, within 60 days of the change or closure of the case. The ORR-4 (Outcomes Report) is submitted along with the initial ORR-3 placement report and again within approximately 12 months of the initial placement and each subsequent 12 months to record outcomes of the child's progress toward the goals listed in the child's case plan and particularly for youth 17 years of age and above related to independent living and/or educational plans.

Respondents: State governments.

Annual Burden Estimates
Instrument | Number of respondents | Number of responses per respondent | Average burden hours per response | Total burden hours
ORR-3 | 15 | 63 | 0.25 | 236.25
ORR-4 | 15 | 63 | 1.25 | 1,181.25

Estimated Total Annual Burden Hours: 1,417.50.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-7245, Attn: Desk Officer for the Administration for Children and Families.

Dated: December 29, 2009.
Robert Sargis,
Reports Clearance Officer.

[FR Doc. E9-31122 Filed 12-31-09; 8:45 am]

BILLING CODE 4184-01-P